DEPARTMENT OF HOUSING AND URBAN DEVELOPMENT

[Docket No. FR-5600-FA-38]

Announcement of Funding Awards for the Border Community Capital Initiative Fiscal Year 2013

AGENCY: Office of the Assistant Secretary for Community Planning and Development, HUD.

ACTION: Notice of Funding Awards.

SUMMARY: In accordance with section 102(a)(4)(C) of the Department of Housing and Urban Development Reform Act of 1989, this announcement notifies the public of funding decisions made by the Department in a competition for funding under the Notice of Funding Availability (NOFA) for the Border Community Capital Initiative. This announcement contains the names of the awardees and the amounts of the awards made available by HUD.

FOR FURTHER INFORMATION CONTACT: Jackie L. Williams, Ph.D., Director, Office of Rural Housing and Economic Development, Office of Community Planning and Development, 451 Seventh Street SW., Room 7137, Washington, DC 20410-7000; telephone (202) 708-2290 (this is not a toll free number). Hearing- and speech-impaired persons may access this number via TTY by calling the Federal Relay Service toll-free at 1-800-877-8339.

SUPPLEMENTARY INFORMATION: Funds used for the Border Community Capital Initiative were appropriated to the Office of Rural Housing and Economic Development in Annual Appropriations between 1999 and 2009 (Public Laws 105-276; 106-74; 106-377; 107-73; 108-7; 108-199; 108-447; 109-115; 110-5; 110-161; and/or 111-8) and subsequently recaptured from or surrendered by underperforming or nonperforming grantees. The competition was announced in the Federal Register (FR Doc. FR-5600-N-38) on Tuesday, February 26, 2013. Applications were rated and selected for funding on the basis of selection criteria contained in that notice.

The Catalog of Federal Domestic Assistance number for this Border Community Capital Initiative program is 14.266. The Border Capital Community Initiative is designed to support local rural nonprofits and federally recognized Indian tribes serving colonias for lending and investing activities in affordable housing, small businesses, and/or community facilities, and for securing additional sources of public and private capital for these activities. Eligible applicants for the Border Community Capital Initiative are local rural nonprofits and federally recognized Indian Tribes with demonstrated experience in lending or investing for affordable housing, small business development, and/or community facilities. Such applicants may be certified CDFIs, but CDFI certification is not required. The funds made available under this program were awarded competitively, through a selection process conducted by HUD.

In accordance with section 102(a)(4)(C) of the Department of Housing and Urban Development Reform Act of 1989 (103 Stat. 1987, 42 U.S.C. 3545), the Department is publishing the grantees and amounts of the awards in Appendix A to this document.

Dated: November 19, 2014.
Clifford Taffet,
General Deputy Assistant Secretary for Community Planning and Development.

Appendix A

FY 2013 Border Community Capital Initiative Program Grantees
Grantee | State | Amount awarded
Accion Texas, Inc | TX | $800,000.00
Affordable Homes of South Texas, Inc | TX | 600,000.00
Community Resource Group, Inc | AR | 200,000.00
International Sonoran Desert Alliance | AZ | 200,000.00
Tierra Del Sol Housing Corporation | NM | 200,000.00

[FR Doc. 2014-27790 Filed 11-21-14; 8:45 am]

BILLING CODE 4210-67-P